DEPARTMENT OF ENERGY

Federal Energy Regulatory Commission

[Docket No. CP06-64-000]

Central New York Oil and Gas Company, LLC; Notice of Intent To Prepare an Environmental Assessment for the Proposed Stagecoach Phase II Expansion Project and Request for Comments on Environmental Issues and Notice of Site Visit

March 17, 2006.

The staff of the Federal Energy Regulatory Commission (FERC or Commission) will prepare an environmental assessment (EA) that will discuss the environmental impacts of the Stagecoach Phase II Expansion Project, involving construction and operation of facilities by Central New York Oil and Gas, LLC (CNYOG) in Tioga County, New York and Bradford County, Pennsylvania.¹ The EA will be used by the Commission in its decision-making process to determine whether the project is the public convenience and necessity.

¹ CNYOG's application in Docket No. CP06-64-000 was filed with the Commission under section 7 of the Natural Gas Act.

This notice announces the opening of the scoping period that will be used to gather environmental input from the public and interested agencies on the project. Your input will help the Commission staff determine which issues need to be evaluated in the EA. Please note that the scoping period will close on April 17, 2006.

An effort is being made to send this notice to all individuals, organizations, Native American Tribes, and government entities interested in and/or potentially affected by the proposed project. This includes all landowners who are potential right-of-way grantors, whose property may be used temporarily for project purposes, or who own homes within distances defined in the Commission's regulations of certain aboveground facilities. We encourage government representatives to notify their constituents of this planned project and encourage them to comment on their areas of concern.

If you are a landowner receiving this notice, you may be contacted by a pipeline company representative about the acquisition of an easement to construct, operate, and maintain the proposed facilities. The pipeline company would seek to negotiate a mutually acceptable agreement. However, if the project is approved by the Commission, that approval conveys with it the right of eminent domain. Therefore, if easement negotiations fail to produce an agreement, the pipeline company could initiate condemnation proceedings in accordance with state law.

A fact sheet prepared by the FERC entitled “An Interstate Natural Gas Facility on My Land? What Do I Need to Know?” was attached to the project notice (CNYOG) provided to landowners. This fact sheet addresses a number of typically asked questions, including the use of eminent domain and how to participate in the Commission's proceedings. It is available for viewing on the FERC Internet Web site (http://www.ferc.gov).

Summary of the Proposed Project

The entire Stagecoach Storage Field would consist of a total of six reservoirs (“pools”), two of which and were converted into storage reservoirs as part of the original Stagecoach Phase I construction, and four of which are nearly depleted production reservoirs and would be added to the Stagecoach Storage Facility as part of the Phase II Expansion Project. The existing Stagecoach Storage Facility consists of the Barnhart-Owen and Widell pools, ten storage wells, seven observation wells, about 12 miles of interconnecting pipeline, and a central compressor facility. The existing working storage capacity is 13.25 Billion cubic feet (Bcf).

The Phase II Expansion Project would develop the four remaining pools (Lidell, Racht, Brenchley-Cook, and Nichols-Mead pools) for an additional working storage capacity estimated at 13 Bcf.

As part of the proposed expansion, CNYOG would construct:

• An additional 12,000-horsepower electric-drive centrifugal compressor unit to be installed within the existing Stagecoach Central Compressor Station building;

• A power transformer and gas cooling unit and other appurtenant facilities to be installed within the Central Compressor Station;

• A total of nine storage injection/withdrawal wells; ²

² Four of the wells (one in each of the Lidell, Racht, Brenchley-Cook, and Nichols-Mead pools) would be drilled during the late spring/early summer of 2006 under the existing FERC authorization for the Stagecoach Storage Facility issued in 2001 (Docket No. CP00-62-000). The remaining five storage wells would be located within the Lidell Pool and would be drilled once CNYOG receives any approval for the Phase II Expansion Project.

• Approximately 7.3-miles of 6-inch-, 8-inch-, and 20-inch-diameter gathering pipeline and associated rights-of-way;

• Eight wellhead meter stations and other appurtenant facilities, including isolation valves, separators, measurement and communication equipment, and a 20-foot by 70-foot building at each storage well site to house equipment; and

• About 4.4 miles of access roads not contained within pipeline or well easements.

As part of the storage facility, CNYOG also proposes to construct and operate a 9.3-mile-long, 24-inch-diameter lateral (North Lateral) from the existing compressor station to the proposed Millennium Pipeline located north of the town of Owego, New York.³ Its appurtenant facilities will include measurement and regulation, communication, isolation valves, and pigging facilities.

³ The Millennium Pipeline Project was approved by the Commission on September 19, 2002 in Docket Nos. CP98-150-006 and -007. Construction of the Millennium Pipeline has not commenced to date.

The general location of CNYOG's proposed facilities is shown on the map attached as appendix 1.⁴

⁴ The appendices referenced in this notice are not being printed in the Federal Register. Copies of all appendices, other than Appendix 1 (map), are available on the Commission's Web site at the “eLibrary” link or from the Commission's Public Reference Room, 888 First Street, NE., Washington, DC 20426, or call (202) 502-8371. For instructions on connecting to eLibrary refer to the last page of this notice. Copies of the appendices were sent to all those receiving this notice in the mail.

Land Requirements for Construction

Construction of the proposed facilities would require about 278.1 acres of land. Of this acreage, 115.5 acres would be permanently affected. The remaining 162.6 acres would be temporarily impacted and allowed to revert to its former use. Each of CNYOG's nine test/storage wells would temporarily disturb about a 250-foot-radius area.

A 100-foot-wide construction right-of-way is proposed for the North Lateral pipeline facilities, and a 50-foot-wide construction right-of-way is proposed for all pipeline laterals to the storage wells. The North Lateral construction area parallels/crosses a New York State Electric and Gas Company (NYSEG) electric transmission line for about 2,852 feet. The North Lateral follows the same general alignment as an existing Columbia Gas pipeline across the Susquehanna River north to the proposed Millennium Pipeline interconnect. CNYOG would maintain a 50-foot permanent right-of-way for operation of the pipeline facilities.

The EA Process

The National Environmental Policy Act (NEPA) requires the Commission to take into account the environmental impacts that could result from an action whenever it considers the issuance of a Certificate of Public Convenience and Necessity. NEPA also requires us to discover and address concerns the public may have about proposals. This process is referred to as “scoping”. The main goal of the scoping process is to focus the analysis in the EA on the important environmental issues. By this Notice of Intent, the Commission staff requests public comments on the scope of the issues to address in the EA. All comments received will be considered during the preparation of the EA. State and local government representatives are encouraged to notify their constituents of this proposed action and encourage them to comment on their areas of concern.

In the EA, we ⁵ will discuss impacts that could occur as a result of the construction and operation of the proposed project. We will also evaluate possible alternatives to the proposed project or portions of the project, and make recommendations on how to lessen or avoid impacts on the various resource areas. The EA we will discuss impacts that could occur as a result of the construction and operation of the proposed project under these general headings:

⁵ “We”, “us”, and “our” refer to the environmental staff of the Office of Energy Projects (OEP).

• Geology and soils.

• Land use.

• Water resources, fisheries, and wetlands.

• Cultural resources.

• Vegetation and wildlife.

• Air quality and noise.

• Endangered and threatened species.

• Public safety.

Our independent analysis of the issues will be presented in the EA. We will also evaluate possible alternatives to the proposed project or portions of the project, and make recommendations on how to lessen or avoid impacts on the various resource areas.

Depending on the comments received during the scoping process, the EA may be published and mailed to Federal, State, and local government agencies; public interest groups; Native American tribes; interested individuals; affected landowners, newspapers, libraries, and the Commission's official service list for this proceeding. A 30-day comment period will be allotted for review if the EA is published. We will consider all comments submitted in any Commission Order that is issued for the project.

To ensure your comments are considered, please carefully follow the instructions in the public participation section below.

Public Participation

You can make a difference by providing us with your specific comments or concerns about the project. By becoming a commenter, your concerns will be addressed in the EA and considered by the Commission. Your comments should focus on the potential environmental effects of the proposal, reasonable alternatives to the proposal (including alternative locations and routes), and measures to avoid or lessen environmental impact. The more specific your comments, the more useful they will be. Please carefully follow these instructions to ensure that your comments are received in time and properly recorded:

• Send an original and two copies of your letter to: Magalie R. Salas, Secretary, Federal Energy Regulatory Commission, 888 First St., NE., Room 1A, Washington, DC 20426.

• Label one copy of the comments for the attention of Gas Branch 1.

• Reference Docket No. CP06-64-000.

• Mail your comments so that they will be received in Washington, DC, on or before April 17, 2006.

Please note that the Commission encourages electronic filing of comments. See 18 Code of Federal Regulations (CFR) 385.2001(a)(1)(iii) and the instructions on the Commission's Internet Web site at http://www.ferc.gov under the “eFiling” link and the link to the User's Guide. Prepare your submission in the same manner as you would if filing on paper and save it to a file on your hard drive. Before you can file comments you will need to create an account by clicking on “Login to File” and then “New User Account.” You will be asked to select the type of filing you are making. This filing is considered a “Comment on Filing.”

Public Meeting

In addition to or in lieu of sending written comments, we invite you to attend the public scoping meeting we will conduct in the project area. The location for this meeting is listed below. The meeting is scheduled for Tuesday, April 4, 2006 from 7 p.m. to 10 p.m.

Owego Treadway Inn, 1100 State Route 17C, Owego, NY 13827. (607) 687-4500.

Public scoping meetings are designed to provide State and local agencies, interested groups, affected landowners, and the general public with another opportunity to offer comments on the project. Interested groups and individuals are encouraged to attend the meeting and to present comments on the environmental issues they believe should be addressed in the EA.

Site Visit

On April 5, 2006, the FERC staff will conduct a site visit of the Stagecoach Storage Facility. The purpose of the visit will be to inspect both the existing storage facility and the proposed Stagecoach Phase II Expansion Project. We will view the proposed storage field expansion, well sites, and associated pipeline routes. Representatives of CNYOG will be accompanying the FERC staff.

All interested parties may attend the site visit on April 5, 2006. Those planning to attend must provide their own transportation. If you are interested in attending the site visit, please meet at 8 a.m. in the lobby of the Owego Treadway Inn at the address listed above.

Becoming an Intervener

In addition to involvement in the EA scoping process, you may want to become an official party to the proceeding, or “intervener”. To become an intervener you must file a motion to intervene according to Rule 214 of the Commission's Rules of Practice and Procedure (18 CFR 385.214). Interveners have the right to seek rehearing of the Commission's decision. Motions to Intervene should be electronically submitted using the Commission's eFiling system at http://www.ferc.gov. Persons without Internet access should send an original and 14 copies of their motion to the Secretary of the Commission at the address indicated previously. Persons filing Motions to Intervene on or before the comment deadline indicated above must send a copy of the motion to the Applicant. All filings, including late interventions, submitted after the comment deadline must be served on the Applicant and all other interveners identified on the Commission's service list for this proceeding. Persons on the service list with e-mail addresses may be served electronically; others must be served a hard copy of the filing. Please refer to Appendix 2 if you would like more information on how to intervene in Commission proceedings.

Affected landowners and parties with environmental concerns may be granted intervener status upon showing good cause by stating that they have a clear and direct interest in this proceeding which would not be adequately represented by any other parties. You do not need intervener status to have your environmental comments considered.

Environmental Mailing List

If you do not want to remain on our mailing list, please return the Remove From Mailing List Form included in Appendix 3. If you return this form, you will be removed from the Commission's environmental mailing list.

Additional Information

Additional information about the project is available from the Commission's Office of External Affairs at 1-866-208 FERC (3372) or on the FERC Internet Web site (http://www.ferc.gov). Using the “eLibrary” link, select “General Search” from the eLibrary menu, enter the selected date range and “Docket Number” (i.e., CP06-64-000), and follow the instructions. For assistance with access to eLibrary, the helpline can be reached at 1-866-208-3676, TTY (202) 502-8659, or at FERCOnlineSupport@ferc.gov. The eLibrary link on the FERC Internet Web site also provides access to the texts of formal documents issued by the Commission, such as orders, notices, and rule makings.

In addition, the Commission now offers a free service called eSubscription which allows you to keep track of all formal issuances and submittals in specific dockets. This can reduce the amount of time you spend researching proceedings by automatically providing you with notification of these filings, document summaries and direct links to the documents. Go to http://www.ferc.gov/esubscribenow.htm.

Finally, public meetings or site visits will be posted on the Commission's calendar located at http://www.ferc.gov/EventCalendar/EventsList.aspx along with other related information.

Magalie R. Salas,
Secretary.

[FR Doc. E6-4239 Filed 3-23-06; 8:45 am]

BILLING CODE 6717-01-P